DEPARTMENT OF HEALTH AND HUMAN SERVICES

Centers for Medicare & Medicaid Services

[Document Identifier: CMS-10633]

Agency Information Collection Activities: Proposed Collection; Comment Request

AGENCY: Centers for Medicare & Medicaid Services.

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments must be received by February 27, 2017.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number ____, Room C4-26-05, 7500 Security Boulevard, Baltimore, Maryland 21244-1850.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION:

Contents

This notice sets out a summary of the use and burden associated with the following information collections. More detailed information can be found in each collection's supporting statement and associated materials (see ADDRESSES).

CMS-10633 QIC Demonstration Evaluation Contractor (QDEC): Analyze Medicare Appeals To Conduct Formal Discussions and Reopenings With Suppliers

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: New Collection (Request for a new OMB control number); Title of Information Collection: QIC Demonstration Evaluation Contractor (QDEC): Analyze Medicare Appeals to Conduct Formal Discussions and Reopenings with Suppliers; Use: The Formal Telephone Discussions Demonstration is designed to improve the efficiency of Medicare's five-level appeals system for fee-for-service (FFS) claims, which currently is experiencing a backlog. In the Demonstration, the Qualified Independent Contractor (QIC) provides education through a formal telephone discussion process to improve suppliers' understanding of the reasons for claim denials, and ultimately improve the quality of future claims submissions. CMS is interested in determining whether engagement between suppliers and the QIC will improve the understanding of the cause of Level 2 appeal denials, and over time, whether this results in increased submission of accurate and complete claims at the Medicare Administrative Contractor (MAC) level. The evaluation of the Demonstration will use both quantitative and qualitative techniques to analyze the outcomes and impact of the Demonstration. Claims analysis, a web-based supplier survey, and supplier key informant interviews will inform the evaluation, and: (1) Focus specifically on outcomes including supplier satisfaction with the discussions, the rate of claims denials, and the number of claims that go through appeals Levels 2 and 3; (2) seek to determine whether further engagement between suppliers and the QIC improves understanding of the reasons for claim denials; and (3) support CMS in assessing the QIC's effectiveness in meeting a number of criteria established by CMS, including how satisfied participating suppliers were with the formal telephone discussion process. Form Number: CMS-10633 (OMB control number: 0938-NEW); Frequency: Monthly; Affected Public: Private Sector Business or other for-profits, Not-for-Profit Institutions; Number of Respondents: 10,560; Total Annual Responses: 2,640; Total Annual Hours: 473.3. (For policy questions regarding this collection contact Lynnsie Doty at 410-786-2175.)

Dated: December 21, 2016.
William N. Parham, III,
Director, Paperwork Reduction Staff, Office of Strategic Operations and Regulatory Affairs.

[FR Doc. 2016-31183 Filed 12-27-16; 8:45 am]

BILLING CODE 4120-01-P